DEPARTMENT OF HEALTH AND HUMAN SERVICES

National Institutes of Health

Eunice Kennedy Shriver National Institute of Child Health & Human Development; Amended Notice of Meeting

Notice is hereby given of a change in the meeting of the Biobehavioral and Behavioral Sciences Subcommittee, October 23, 2020, 10:00 a.m. to October 23, 2020, 05:00 p.m., NICHD, 6710B Rockledge Drive, Bethesda, MD 20892 which was published in the Federal Register on July 22, 2020, 85 FR 44311.

The meeting format for the CHHD-H Meeting that will be held on October 23, 2020 has changed to a Video Assisted Meeting. The meeting is closed to the public.

Dated: October 14, 2020.
Ronald J. Livingston, Jr.,
Program Analyst, Office of Federal Advisory Committee Policy.

[FR Doc. 2020-23124 Filed 10-19-20; 8:45 am]

BILLING CODE 4140-01-P